DEPARTMENT OF JUSTICE

Antitrust Division

Notice Pursuant to the National Cooperative Research and Production Act of 1993—Cooperative Research Group H2ICE Demonstration Vehicle (“H2ICE”)

Notice is hereby given that, on February 14, 2024, pursuant to section 6(a) of the National Cooperative Research and Production Act of 1993, 15 U.S.C. 4301 et seq. (“the Act”), Cooperative Research Group H2ICE Demonstration Vehicle (“H2ICE”) has filed written notifications simultaneously with the Attorney General and the Federal Trade Commission disclosing changes in its membership. The notifications were filed for the purpose of extending the Act's provisions limiting the recovery of antitrust plaintiffs to actual damages under specified circumstances. Specifically, Chevron Oronite Company LLC, San Antonio, TX, has been added as a party to this venture.

No other changes have been made in either the membership or planned activity of the group research project. Membership in this group research project remains open, and H2ICE intends to file additional written notifications disclosing all changes in membership.

On August 14, 2023, H2ICE filed its original notification pursuant to section 6(a) of the Act. The Department of Justice published a notice in the Federal Register pursuant to section 6(b) of the Act on November 20, 2023 (88 FR 80763).

The last notification was filed with the Department on December 5, 2023. A notice was published in the Federal Register pursuant to section 6(b) of the Act on February 6, 2024 (89 FR 8246).

Suzanne Morris,
Deputy Director Civil Enforcement Operations, Antitrust Division.

[FR Doc. 2024-07944 Filed 4-15-24; 8:45 am]

BILLING CODE P